DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
Henderson County, North Carolina, and Incorporated Areas
Docket No.: FEMA-D-7808
Allen Branch | At the confluence with Clear Creek | +2,081 | Unincorporated Areas of Henderson County, City of Hendersonville.
| Approximately 200 feet upstream of Luther Capell Lane | +2,183
Bat Fork Creek | At the confluence with Mud Creek | +2,082 | Unincorporated Areas of Henderson County, City of Hendersonville.
| Approximately 200 feet upstream of U.S. 176 | +2,159
Battle Creek | At the downstream side of U.S. 64 | +2,069 | Unincorporated Areas of Henderson County.
| Approximately 0.4 mile upstream of Battle Creek Road (State Road 1211) | +2,082
Big Willow Creek | Approximately 0.4 mile upstream of the confluence with French Broad River | +2,081 | Unincorporated Areas of Henderson County.
| At the confluence of South Fork Big Willow Creek and North Fork Big Willow Creek | +2,081
Big Willow Creek Tributary 1 | Approximately 1,200 feet upstream of the confluence with Big Willow Creek | +2,104 | Unincorporated Areas of Henderson County.
| Approximately 40 feet upstream of Lakeshore Drive | +2,109
Boylston Creek | Approximately 50 feet downstream of Banner Farm Road | +2,072 | Town of Mills River.
| Approximately 230 feet upstream of Turkey Pen Gap Road | +2,190
Boylston Creek Tributary 7 | At the confluence with Boylston Creek | +2,103 | Unincorporated Areas of Henderson County, Town of Mills River.
| Approximately 1,090 feet upstream of Cross Creek Court | +2,128
Britton Creek | At the confluence with Mud Creek | +2,081 | Unincorporated Areas of Henderson County, City of Hendersonville.
| Approximately 90 feet upstream of Mistletoe Trail | +2,284
Britton Creek Tributary 2 | At the confluence with Britton Creek | +2,082 | Unincorporated Areas of Henderson County, City of Hendersonville.
| Approximately 150 feet upstream of Stonebrook Drive (State Road 2050) | +2,154
Broad River | At the Henderson/Rutherford County boundary | +1,411 | Unincorporated Areas of Henderson County.
| At the Buncombe/Henderson County boundary | +1,719
Cane Creek | Approximately 100 feet upstream of I-26 | +2,062 | Unincorporated Areas of Henderson County, Town of Fletcher.
| Approximately 800 feet upstream of the Henderson/Buncombe County boundary | +2,094
Clear Creek | At the confluence with Mud Creek | +2,078 | Unincorporated Areas of Henderson County.
| Approximately 1.0 mile upstream of Apple Valley Road (State Road 1572) | +2,171
Devils Fork | At the confluence with Bat Fork Creek | +2,083 | Unincorporated Areas of Henderson County, City of Hendersonville.
| At Old Dana Road (State Road 1738) | +2,135
Dunn Creek | At the confluence with Bat Fork Creek | +2,099 | Unincorporated Areas of Henderson County, City of Hendersonville.
| Approximately 570 feet upstream of Howard Gap Road (State Road 1006) | +2,144
Featherstone Creek | At the confluence with Mud Creek | +2,069 | Unincorporated Areas of Henderson County.
| Approximately 240 feet upstream of Locust Grove Road (State Road 1528) | +2,253
Finley Creek | At the confluence with Shepherd Creek | +2,131 | Unincorporated Areas of Henderson County.
| Approximately 1,980 feet upstream of Old Kanuga Road (State Road 1138) | +2,146
Gash Creek | Approximately 400 feet downstream of Etowah School Road (State Road 1205) | +2,081 | Unincorporated Areas of Henderson County.
| Approximately 1,250 feet upstream of U.S. 64 | +2,101
Green River | At the Henderson/Polk County boundary | +1,442 | Unincorporated Areas of Henderson County.
| Approximately 300 feet upstream of Bear Paw Ridge Road | +2,166
Henderson Creek | At the confluence with Clear Creek | +2,118 | Unincorporated Areas of Henderson County.
| Approximately 1,240 feet upstream of Pace Road (State Road 1726) | +2,146
Hickory Creek (near Gerton) | At the confluence with Broad River | +1,483 | Unincorporated Areas of Henderson County.
| Approximately 320 feet upstream of Boulder Lane | +3,652
Higgins Branch | At the confluence with Kimsey Creek | +2,062 | Town of Fletcher.
| Approximately 1,820 feet upstream of Birkshire Way | +2,178
Hoopers Creek | At the confluence with Cane Creek | +2,074 | Unincorporated Areas of Henderson County, Town of Fletcher.
| Approximately 30 feet downstream of Lindsey Loop Road (State Road 1571) | +2,181
Kimsey Creek | Approximately 50 feet upstream of U.S. 74 | +2,062 | Unincorporated Areas of Henderson County, Town of Fletcher.
| Approximately 1,880 feet upstream of Kimzey Creek Drive | +2,155
King Creek | At the confluence with Bat Fork Creek | +2,084 | Unincorporated Areas of Henderson County, City of Hendersonville, Village of Flat Rock.
| Approximately 0.5 mile upstream of West Blue Ridge Road (State Road 1812) | +2,178
King Creek Tributary 3 | At the confluence with King Creek | +2,099 | Unincorporated Areas of Henderson County, City of Hendersonville, Village of Flat Rock.
| Approximately 210 feet upstream of Rutledge Drive (State Road 1166) | +2,171
Kyles Creek | At the confluence with Clear Creek | +2,118 | Unincorporated Areas of Henderson County.
| Approximately 140 feet downstream of Terrys Gap Road (State Road 1565) | +2,187
Lanning Mill Creek | At the confluence with Kyles Creek | +2,176 | Unincorporated Areas of Henderson County.
| Approximately 800 feet upstream of the confluence with Kyles Creek | +2,187
Lewis Creek | At the confluence with Clear Creek | +2,126 | Unincorporated Areas of Henderson County.
| Approximately 80 feet downstream of Pilot Mountain Road (State Road 1783) | +2,169
Little Willow Creek | At Pleasant Grove Road (State Road 1191) | +2,083 | Unincorporated Areas of Henderson County.
| Approximately 1.6 miles upstream of the confluence with French Broad River | +2,113
Mill Pond Creek | Approximately 175 feet upstream of Hysong Lane | +2,075 | Unincorporated Areas of Henderson County.
| Approximately 0.4 mile upstream of Mountain Road (State Road 1381) | +2,202
Mills River | Approximately 0.6 mile upstream of Hooper Lane (State Road 1353) | +2,063 | Town of Mills River.
| At the confluence of North Fork Mills River and South Fork Mills River | +2,119
Mud Creek | Approximately 1.4 miles upstream of the confluence with French Broad River | +2,062 | Unincorporated Areas of Henderson County, City of Hendersonville, Town of Fletcher, Village of Flat Rock.
| Approximately 300 feet upstream of Walnut Cove Road (State Road 1125) | +2,161
North Fork Big Willow Creek | At the confluence with Big Willow Creek | +2,081 | Unincorporated Areas of Henderson County.
| Approximately 0.5 mile upstream of the confluence with Big Willow Creek | +2,099
North Fork Mills River | At the confluence with Mills River | +2,119 | Unincorporated Areas of Henderson County, Town of Mills River.
| Approximately 1.3 miles upstream of Rush Branch Road | +2,259
Perry Creek | At the confluence with Shepherd Creek | +2,131 | Unincorporated Areas of Henderson County.
| Approximately 1,530 feet upstream of Price Road (State Road 1137) | +2,147
Piney Branch | At the confluence with South Fork Big Willow Creek | +2,082 | Unincorporated Areas of Henderson County.
| Approximately 0.8 mile upstream of Big Willow Road (State Road 1191) | +2,218
Reedypatch Creek | At the confluence with Broad River | +1,461 | Unincorporated Areas of Henderson County.
| Approximately 540 feet upstream of Bald Rock Road (State Road 1710) | +2,176
Rock Creek (into Green River) | At the confluence with Green River | +2,067 | Unincorporated Areas of Henderson County.
| Approximately 0.5 mile upstream of Green River Road (State Road 1106) | +2,103
Shaw Creek | At the downstream side of U.S. 64 | +2,069 | Unincorporated Areas of Henderson County.
| Approximately 1,400 feet upstream of Turley Falls Road (State Road 1215) | +2,122
Shepherd Creek | At South Lakeside Drive (State Road 1148) | +2,126 | Unincorporated Areas of Henderson County.
| At the confluence of Perry Creek and Finley Creek | +2,131
South Fork Big Willow Creek | At the confluence with Big Willow Creek | +2,081 | Unincorporated Areas of Henderson County.
| Approximately 1,810 feet upstream of Patterson Road (State Road 1194) | +2,103
South Fork Mills River | At the confluence with Mills River | +2,119 | Unincorporated Areas of Henderson County, Town of Mills River.
| Approximately 3.2 miles upstream of Dalton Road (State Road 1340) | +2,258
South Wash Creek | At the confluence with Wash Creek | +2,153 | Town of Laurel Park.
| Approximately 50 feet downstream of Lake Drive | +2,217
Tonys Creek | At the confluence with Shepherd Creek | +2,126 | Unincorporated Areas of Henderson County, Town of Laurel Park.
| Approximately 0.5 mile upstream of Willow Road (State Road 1171) | +2,201
Wash Creek | Approximately 400 feet upstream of the confluence with Mud Creek | +2,091 | Unincorporated Areas of Henderson County, City of Hendersonville, Town of Laurel Park.
| Approximately 330 feet upstream of Railroad | +2,202
Wolfpen Creek | Approximately 500 feet upstream of the confluence with Clear Creek | +2,091 | Unincorporated Areas of Henderson County, City of Hendersonville.
| Approximately 90 feet upstream of Chestnut Gap Road (State Road 1742) | +2,130
* National Geodetic Vertical Datum.
+ North American Vertical Datum.
# Depth in feet above ground.
ADDRESSES
City of Hendersonville
Maps are available for inspection at Hendersonville City Hall, 145 Fifth Avenue East, Hendersonville, North Carolina.
Town of Fletcher
Maps are available for inspection at Fletcher Town Hall, 4005 Hendersonville Road, Fletcher, North Carolina.
Town of Laurel Park
Maps are available for inspection at Laurel Park Town Hall, 441 White Pine Drive, Laurel Park, North Carolina.
Town of Mills River
Maps are available for inspection at Mills River Town Hall, 5046 Boylston Highway, Suite 3, Mills River, North Carolina.
Unincorporated Areas of Henderson County
Maps are available for inspection at Henderson County Administration Building, 100 North King Street, Hendersonville, North Carolina.
Village of Flat Rock
Maps are available for inspection at Flat Rock Village Hall, 110 Village Center Drive, Flat Rock, North Carolina.
McDowell County, North Carolina, and Incorporated Areas
Docket No.: FEMA-D-7668
Alexander Branch | At the confluence with South Muddy Creek | +1,137 | Unincorporated Areas of McDowell County.
| Approximately 0.8 mile upstream of the confluence with South Muddy Creek | +1,174
Armstrong Creek | At the confluence with North Fork Catawba River | +1,382 | Unincorporated Areas of McDowell County.
| At the confluence of House Branch | +1,959
Bakers Creek | At the confluence with Second Broad River | +1,026 | Unincorporated Areas of McDowell County.
| Approximately 1.3 miles upstream of the Railroad | +1,153
Beaverdam Branch | At the confluence with Second Broad River | +1,270 | Unincorporated Areas of McDowell County.
| Approximately 0.5 mile upstream of State Route 1148 | +1,311
Betsy Creek | At the confluence with Tom Creek | +1,442 | Unincorporated Areas of McDowell County.
| Approximately 300 feet upstream of State Route 1434 | +1,461
Big Camp Creek | At the confluence with North Muddy Creek | +1,134 | Unincorporated Areas of McDowell County.
| Approximately 370 feet downstream of Interstate 40 | +1,197
Bobs Creek | At the confluence with North Muddy Creek | +1,206 | Unincorporated Areas of McDowell County.
| Approximately 1,050 feet upstream of State Route 1796 | +1,219
Boney Creek | At the confluence with Cove Creek | +1,137 | Unincorporated Areas of McDowell County.
| Approximately 0.5 mile upstream of State Route 1143 | +1,170
Bradley Creek | At the confluence with Loom Branch | +1,420 | Unincorporated Areas of McDowell County.
| Approximately 850 feet upstream of State Route 1133 | +1,488
Brevard Creek | At the confluence with Catawba River | +1,342 | Unincorporated Areas of McDowell County.
| Approximately 1.4 miles upstream of State Route 1241 | +1,472
Buck Creek | At the confluence with Catawba River | +1,246 | Unincorporated Areas of McDowell County.
| Approximately 0.5 mile upstream of Sugar Cove Road | +1,883
Caleb Branch | At the confluence with North Muddy Creek | +1,163 | Unincorporated Areas of McDowell County.
| Approximately 0.6 mile upstream of State Route 1760 | +1,224
Camp Creek | At the confluence with Crooked Creek | +1,441 | Unincorporated Areas of McDowell County.
| Approximately 0.6 mile upstream of State Route 1131 | +1,535
Cane Creek (near Dysartsville) | At the McDowell/Rutherford County boundary | +975 | Unincorporated Areas of McDowell County.
| Approximately 0.4 mile upstream of the confluence of Shoal Creek | +1,044
Cane Creek (near Greenlee) | Approximately 500 feet upstream of the confluence with Catawba River | +1,292 | Unincorporated Areas of McDowell County.
| Approximately 250 feet upstream of U.S. Highway 70 | +1,454
Cane Creek Tributary 1 (near Dysartsville) | At the confluence with Cane Creek (near Dysartsville) | +1,037 | Unincorporated Areas of McDowell County.
| Approximately 1,680 feet upstream of the confluence with Cane Creek (near Dysartsville) | +1,064
Cane Creek Tributary 1 (near Greenlee) | At the confluence with Cane Creek (near Greenlee) | +1,332 | Unincorporated Areas of McDowell County.
| Approximately 1,600 feet upstream of State Route 1230 | +1,359
Cane Creek Tributary 2 (near Greenlee) | At the confluence with Cane Creek (near Greenlee) | +1,418 | Unincorporated Areas of McDowell County.
| Approximately 0.3 mile upstream of the confluence with Cane Creek (near Greenlee) | +1,458
Catawba River | At the Burke/McDowell County boundary | +1,206 | Unincorporated Areas of McDowell County, City of Marion, Town of Old Fort.
| Approximately 1.6 miles upstream of the confluence of Left Prong Catawba River | +1,832
Catawba River Tributary 3 | At the confluence with Catawba River | +1,269 | Unincorporated Areas of McDowell County.
| Approximately 0.4 mile upstream of the confluence with Catawba River | +1,281
Clarks Branch | At the confluence with Little Crooked Creek | +1,476 | Unincorporated Areas of McDowell County.
| Approximately 0.4 mile upstream of State Route 1106 | +1,504
Clear Creek | At the confluence with Catawba River | +1,267 | Unincorporated Areas of McDowell County.
| Approximately 0.6 mile upstream of the confluence with Catawba River | +1,285
Conley Branch | At the confluence with North Fork Catawba River | +1,402 | Unincorporated Areas of McDowell County.
| Approximately 1,850 feet upstream of the confluence with Conley Branch Tributary 1 | +1,441
Conley Branch Tributary 1 | At the confluence with Conley Branch | +1,419 | Unincorporated Areas of McDowell County.
| Approximately 0.4 mile upstream of the confluence with Conley Branch | +1,443
Cove Creek | Approximately 400 feet downstream of McDowell/Rutherford County boundary | +1,128 | Unincorporated Areas of McDowell County.
| At the confluences of West Fork Cove Creek and Morgan Creek (near Sugar Hill) | +1,196
Cox Creek | At the confluence with Armstrong Creek | +1,418 | Unincorporated Areas of McDowell County.
| Approximately 250 feet upstream of the confluence of Rag Creek | +1,528
Crooked Creek | At the confluence with Catawba River | +1,321 | Unincorporated Areas of McDowell County.
| Approximately 620 feet upstream of State Route 1100 | +1,845
Curtis Creek | At the confluence with Catawba River | +1,375 | Unincorporated Areas of McDowell County, Town of Old Fort.
| Approximately 1,850 feet upstream of the confluence of Hickory Branch | +1,926
Dales Creek | At the confluence with Catawba River/Lake James | +1,206 | Unincorporated Areas of McDowell County.
| Approximately 1.0 mile upstream of State Route 1552 | +1,386
Frasheur Creek | At the McDowell/Rutherford County boundary | +1,152 | Unincorporated Areas of McDowell County.
| Approximately 0.7 mile upstream of State Route 1140 | +1,223
Glades Creek | At the confluence with Catawba River | +1,300 | Unincorporated Areas of McDowell County.
| Approximately 400 feet upstream of State Route 1161 | +1,450
Goose Creek | At the confluence with North Muddy Creek | +1,227 | Unincorporated Areas of McDowell County.
| Approximately 0.6 mile upstream of State Route 147 | +1,306
Greasy Creek | Approximately 400 feet downstream of County boundary | +1,148 | Unincorporated Areas of McDowell County.
| Approximately 0.5 mile upstream of State Route 1142 | +1,198
Harris Creek (near Sugar Hill) | At the confluence with Cove Creek | +1,132 | Unincorporated Areas of McDowell County.
| Approximately 1,400 feet upstream of State Route 1140 | +1,168
Harris Creek (near Woodlawn) | At the confluence with Tom Creek | +1,606 | Unincorporated Areas of McDowell County.
| Approximately 850 feet upstream of the confluence with Tom Creek | +1,636
Haw Branch | At the confluence with Crooked Creek | +1,379 | Unincorporated Areas of McDowell County.
| Approximately 1,600 feet upstream of State Route 1135 | +1,432
Hicks Branch | At the confluence with North Muddy Creek | +1,254 | Unincorporated Areas of McDowell County.
| Approximately 1,800 feet upstream of State Route 1168 | +1,322
High Shoals Creek | At the confluence with South Muddy Creek | +1,218 | Unincorporated Areas of McDowell County.
| Approximately 200 feet upstream of the confluence of Barnes Branch | +1,225
Honeycutt Creek | At the confluence with North Fork Catawba River | +1,487 | Unincorporated Areas of McDowell County.
| Approximately 340 feet downstream of the Railroad | +1,854
Hoppers Creek | At the confluence with South Muddy Creek | +1,118 | Unincorporated Areas of McDowell County.
| Approximately 1.7 miles upstream of State Highway 226 | +1,201
Jackson Creek | At the confluence with Lytle Branch | +1,492 | Unincorporated Areas of McDowell County.
| Approximately 0.4 mile upstream of the confluence with Lytle Branch | +1,534
Jake Creek | At the upstream side of the Railroad | +1,283 | Unincorporated Areas of McDowell County.
| Approximately 0.5 mile upstream of State Route 1247 | +1,346
Jarrett Creek | At the confluence with Mill Creek | +1,474 | Unincorporated Areas of McDowell County.
| Approximately 2.6 miles upstream of the confluence with Mill Creek | +1,791
Johns Creek | At the confluence with Catawba River | +1,214 | Unincorporated Areas of McDowell County.
| Approximately 1,600 feet upstream of State Route 1501 | +1,228
Katy Creek | At the confluence with South Muddy Creek | +1,150 | Unincorporated Areas of McDowell County.
| Approximately 1,100 feet upstream of State Route 1798 | +1,252
Left Prong Catawba River | At the confluence with Catawba River | +1,527 | Unincorporated Areas of McDowell County.
| Approximately 2.0 miles upstream of the confluence with Catawba River | +1,739
Licklog Creek | At the confluence with Buck Creek | +1,777 | Unincorporated Areas of McDowell County.
| Approximately 1.3 miles upstream of the confluence with Buck Creek | +2,064
Little Buck Creek | At the confluence with Buck Creek/Lake Tahoma | +1,407 | Unincorporated Areas of McDowell County.
| Approximately 200 feet downstream of the confluence of Long Branch | +1,512
Little Crooked Creek | At the confluence with Crooked Creek | +1,450 | Unincorporated Areas of McDowell County.
| Approximately 100 feet downstream of State Route 1106 | +1,536
Little Crooked Creek Tributary 1 | At the confluence with Little Crooked Creek | +1,461 | Unincorporated Areas of McDowell County.
| Approximately 1,470 feet upstream of the confluence with Little Crooked Creek | +1,469
Little Toe River | At the confluence with Crooked Creek | +1,388 | Unincorporated Areas of McDowell County.
| Approximately 25 feet upstream of State Route 1240 | +1,478
Lonan Branch | At the confluence with Pepper Creek | +1,536 | Unincorporated Areas of McDowell County.
| Approximately 1,500 feet upstream of the confluence with Pepper Creek | +1,581
Long Branch | At the confluence with Mill Creek | +1,816 | Unincorporated Areas of McDowell County.
| Approximately 0.4 mile upstream of the Railroad | +1,953
Loom Branch | At the confluence with Crooked Creek | +1,415 | Unincorporated Areas of McDowell County.
| Approximately 0.8 mile upstream of the confluence of Bradley Creek | +1,488
Lytle Branch | At the confluence with Crooked Creek | +1,487 | Unincorporated Areas of McDowell County.
| Approximately 1,100 feet upstream of State Route 1103 | +1,525
Mackey Creek | At the confluence with the Catawba River | +1,284 | Unincorporated Areas of McDowell County.
| Approximately 2.8 miles upstream of U.S. Highway 70 | +1,721
Magazine Branch | At the confluence with Hoppers Creek | +1,145 | Unincorporated Areas of McDowell County.
| Approximately 200 feet downstream of State Route 1771 | +1,162
Martin Branch | At the confluence with North Fork Catawba River | +1,435 | Unincorporated Areas of McDowell County.
| Approximately 350 feet upstream of State Route 1564 | +1,469
Mill Creek | Approximately 200 feet upstream of the confluence with Catawba River | +1,410 | Unincorporated Areas of McDowell County, Town of Old Fort.
| Approximately 300 feet downstream of State Route 1408 | +1,874
Mollys Branch | At the confluence with Hoppers Creek | +1,129 | Unincorporated Areas of McDowell County.
| Approximately 0.6 mile upstream of State Route 1769 | +1,170
Morgan Creek (near Ledbetter Mountain) | At the confluence with Cove Creek | +1,173 | Unincorporated Areas of McDowell County.
| Approximately 1,270 feet upstream of the confluence with Cove Creek | +1,180
Morgan Creek (near Sugar Hill) | At the confluence with Cove Creek and West Fork Cove Creek | +1,196 | Unincorporated Areas of McDowell County.
| Approximately 0.8 mile upstream of the confluence with Cove Creek and West Fork Cove Creek | +1,217
Muddy Creek | Approximately 400 feet downstream of the Burke/McDowell County boundary | +1,087 | Unincorporated Areas of McDowell County.
| At the confluences of North Muddy Creek and South Muddy Creek | +1,089
Newberry Creek | At the confluence with Curtis Creek | +1,670 | Unincorporated Areas of McDowell County.
| Approximately 1.3 miles upstream of the confluence with Curtis Creek | +1,923
Nicks Creek | At the confluence with Catawba River | +1,240 | Unincorporated Areas of McDowell County, City of Marion.
| Approximately 0.5 mile upstream of State Route 1250 | +1,447
North Fork Catawba River | At the confluence with Catawba River/Lake James | +1,206 | Unincorporated Areas of McDowell County.
| Approximately 1.9 miles upstream of State Route 1571 | +2,506
North Muddy Creek | At the confluence with Muddy Creek and South Muddy Creek | +1,089 | Unincorporated Areas of McDowell County.
| Approximately 1.1 miles upstream of the confluence of North Muddy Creek Tributary 2 | +1,326
North Muddy Creek Tributary 2 | At the confluence with North Muddy Creek | +1,297 | Unincorporated Areas of McDowell County.
| Approximately 1.0 mile upstream of State Route 1168 | +1,327
North Muddy Creek Tributary 1 | At the confluence with North Muddy Creek | +1,094 | Unincorporated Areas of McDowell County.
| Approximately 1,000 feet upstream of State Route 1763 | +1,132
Old Catawba River | At the confluence of Shadrick Creek | +1,091 | Unincorporated Areas of McDowell County.
| Approximately 500 feet upstream of the confluence of Shadrick Creek | +1,091
Patten Branch | At the confluence with South Muddy Creek | +1,101 | Unincorporated Areas of McDowell County.
| Approximately 0.6 mile upstream of State Route 1763 | +1,142
Pepper Creek | At the confluence with North Fork Catawba River | +1,446 | Unincorporated Areas of McDowell County.
| Approximately 0.6 mile upstream of State Route 1566 | +1,674
Rock Creek | At the confluence with Second Broad River | +1,290 | Unincorporated Areas of McDowell County.
| At the downstream side of State Route 1145 | +1,365
Second Broad River | At the McDowell/Rutherford County boundary | +990 | Unincorporated Areas of McDowell County.
| Approximately 0.8 mile upstream of State Route 1001 | +1,369
Shadrick Creek | At the confluence with Old Catawba River | +1,091 | Unincorporated Areas of McDowell County.
| Approximately 2.1 miles upstream of the Railroad | +1,194
Shoal Creek | At the confluence with Cane Creek (near Dysartsville) | +1,028 | Unincorporated Areas of McDowell County.
| Approximately 1.2 miles upstream of State Route 1775 | +1,345
South Fork Tom Creek | At the confluence with Tom Creek | +1,456 | Unincorporated Areas of McDowell County.
| Approximately 0.3 mile upstream of the confluence with Tom Creek | +1,489
South Muddy Creek | At the confluence with Muddy Creek and North Muddy Creek | +1,089 | Unincorporated Areas of McDowell County.
| Approximately 0.7 mile upstream of State Route 1780 | +1,331
South Muddy Creek Tributary 1 | At the confluence with South Muddy Creek | +1,107 | Unincorporated Areas of McDowell County.
| At the Burke/McDowell County boundary | +1,124
South Muddy Creek Tributary 2 | At the confluence with South Muddy Creek | +1,123 | Unincorporated Areas of McDowell County.
| Approximately 600 feet upstream of State Route 1767 | +1,143
Stanfords Creek | At the confluence with Goose Creek | +1,239 | Unincorporated Areas of McDowell County.
| Approximately 2.1 miles upstream of the confluence with Goose Creek | +1,346
Swannanoa Creek | At the confluence with Mill Creek | +1,603 | Unincorporated Areas of McDowell County.
| Approximately 0.7 mile upstream of the confluence with Mill Creek | +1,702
Thompsons Fork | At the confluence with North Muddy Creek | +1,101 | Unincorporated Areas of McDowell County.
| Approximately 200 feet downstream of State Route 1747 | +1,181
Tom Creek | At the confluence with Catawba River | +1,229 | Unincorporated Areas of McDowell County.
| Approximately 280 feet upstream of State Route 1440 | +1,637
Tom Creek Tributary 1 | At the confluence with Tom Creek | +1,418 | Unincorporated Areas of McDowell County.
| Approximately 1,300 feet upstream of State Route 1433 | +1,488
Walton Crowley Branch | At the confluence with North Muddy Creek | +1,119 | Unincorporated Areas of McDowell County.
| Approximately 1,230 feet upstream of State Route 1760 | +1,139
West Fork Cove Creek | At the confluence with Cove Creek and Morgan Creek (near Sugar Hill) | +1,197 | Unincorporated Areas of McDowell County.
| Approximately 1.3 miles upstream of State Route 1001 | +1,259
Youngs Fork | At the confluence with North Muddy Creek | +1,205 | Unincorporated Areas of McDowell County, City of Marion.
| Approximately 125 feet downstream of Glenview Street | +1,327 HELP
* National Geodetic Vertical Datum.
+ North American Vertical Datum.
# Depth in feet above ground.
ADDRESSES
City of Marion
Maps available for inspection at the Marion City Hall, 194 North Main Street, Marion, North Carolina.
Town of Old Fort
Maps available for inspection at the Old Fort Town Hall, 38 South Catawba Avenue, Old Fort, North Carolina.
Unincorporated Areas of McDowell County
Maps available for inspection at the McDowell County Administration Building, 60 East Court Street, Marion, North Carolina.

(Catalog of Federal Domestic Assistance No. 97.022, “Flood Insurance.”)

Dated: April 18, 2008.
David I. Maurstad,
Federal Insurance Administrator of the National Flood Insurance Program, Department of Homeland Security, Federal Emergency Management Agency.

[FR Doc. E8-9225 Filed 4-28-08; 8:45 am]

BILLING CODE 9110-12-P